DEPARTMENT OF TRANSPORTATION

Federal Aviation Administration

14 CFR Part 39

[Docket No. FAA-2013-0446; Directorate Identifier 2010-SW-007-AD; Amendment 39-17629; AD 2013-21-05]

RIN 2120-AA64

Airworthiness Directives; Eurocopter Deutschland GmbH Helicopters

AGENCY: Federal Aviation Administration (FAA), DOT.

ACTION: Final rule.

SUMMARY: We are adopting a new airworthiness directive (AD) for Eurocopter Deutschland GmbH (Eurocopter) Model EC135 P1, P2, P2+, T1, T2, and T2+ helicopters. This AD requires inspecting each linear transducer bearing (bearing) for freedom of movement and replacing the bearing if there is binding or rough turning or if there is chafing or damage on the lower side of the floor. Also, this AD requires modifying and re-identifying a certain rod. This AD was prompted by an incident involving limited control of a tail rotor because of the binding of a bearing. The actions of this AD are intended to detect and replace each bearing subject to binding, which could lead to subsequent loss of control of the helicopter.

DATES: This AD is effective December 5, 2013.

The Director of the Federal Register approved the incorporation by reference of a certain document listed in this AD as of December 5, 2013.

ADDRESSES: For service information identified in this AD, contact American Eurocopter Corporation, 2701 N. Forum Drive, Grand Prairie, TX 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 2601 Meacham Blvd., Fort Worth, Texas 76137; telephone (817) 222-5110; email matthew.fuller@faa.gov.

SUPPLEMENTARY INFORMATION:

Discussion

On May 23, 2013, at 78 FR 30793, the Federal Register published our notice of proposed rulemaking (NPRM), which proposed to amend 14 CFR part 39 by adding an AD that would apply to Model EC135 P1, P2, P2+, T1, T2, and T2+ helicopters, with bearing, part number (P/N) LN9367GE6N2; rod, P/N L671M5040205; lever, P/N L671M5040101; and floor, P/N L533M1014101, L533M1014102, L533M1014103, L533M1014104, L533M1014105 or L533M1014106, installed. The NPRM proposed to require, at specified intervals, inspecting each bearing for freedom of movement. The NPRM also proposed, before further flight, if there is binding or rough turning, replacing the bearing or if there is chafing or damage on the lower side of the floor, replacing the bearing and repairing the floor, and, thereafter, installing a Teflon strip. The NPRM also proposed modifying the rod and re-identifying the rod and lever with a new part number. The requirements were intended to detect and replace each bearing subject to binding, which could lead to subsequent loss of control of the helicopter.

The NPRM was prompted by AD No. 2006-0318 R1, dated October 27, 2006, issued by the European Aviation Safety Agency (EASA), which is the Technical Agent for the Member States of the European Union, to correct an unsafe condition for all Eurocopter Model EC 135 helicopters. EASA advises of an incident in which impaired control of an EC 135 tail rotor was detected. EASA states that according to examinations, the bearing of the linear transducer was subject to binding, which limited the control range.

FAA's Determination

Comments

We gave the public the opportunity to participate in developing this AD, but we did not receive any comments on the NPRM (78 FR 30793, May 23, 2013).

FAA's Determination

These helicopters have been approved by the aviation authority of Germany and are approved for operation in the United States. Pursuant to our bilateral agreement with Germany, EASA, its technical representative, has notified us of the unsafe condition described in its AD. We are issuing this AD because we evaluated all information provided by EASA and determined the unsafe condition exists and is likely to exist or develop on other helicopters of these same type designs and that air safety and the public interest require adopting the AD requirements as proposed.

Differences Between This AD and the EASA AD

This AD does not refer to the compliance date of October 31, 2006, because that date has passed; instead we require compliance within 100 hours time-service (TIS). This AD does not require contacting Eurocopter customer support. This AD requires modifying each rod within 100 hours TIS, rather than within 800 hours TIS as specified in the EASA AD.

Related Service Information

Eurocopter has issued Alert Service Bulletin EC135-67A-012, Revision 1, dated October 18, 2006 (ASB), which specifies inspecting the bearing of the linear transducer for freedom of movement and the lower side of the floor for chafing or damage. If there is binding, the ASB specifies replacing the bearing. If there is chafing or damage on the floor, the ASB specifies replacing the bearing and repairing the floor. The ASB also specifies modifying and reidentifying a certain rod. EASA classified this ASB as mandatory and issued EASA AD 2006-0318 R1, dated October 27, 2006, to ensure the continued airworthiness of these helicopters.

Costs of Compliance

We estimate that this AD will affect 214 helicopters of U.S. Registry. We estimate that operators may incur the following costs in order to comply with this AD: It will take about 10 work-hours to inspect the bearing for freedom of movement at an average labor rate of $85 per work hour. No parts or materials are required for the inspection. Based on these estimates, the cost will be $850 per helicopter or $181,900 for the fleet of all U.S.-registered helicopters. If necessary, replacing the bearing will require 3 additional work-hours, and parts will cost $50. Repairing the floor will require 3 additional work hours and minimal cost for materials.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-21-05 Eurocopter Deutschland GmbH: Amendment 39-17629; Docket No. FAA-2013-0446; Directorate Identifier 2010-SW-007-AD.

(a) Applicability

This AD applies to Model EC135 P1, P2, P2+, T1, T2, and T2+ helicopters, with bearing, part number (P/N) LN9367GE6N2; rod, P/N L671M5040205; lever, P/N L671M5040101; and floor, P/N L533M1014101, L533M1014102, L533M1014103, L533M1014104, L533M1014105 or L533M1014106, installed, certificated in any category.

(b) Unsafe Condition

This AD defines the unsafe condition as limited control of a tail rotor because of the binding of a bearing. This condition could result in subsequent loss of control of the helicopter.

(c) Effective Date

This AD becomes effective December 5, 2013.

(d) Compliance

You are responsible for performing each action required by this AD within the specified compliance time unless it has already been accomplished prior to that time.

(e) Required Actions

(1) Within 100 hours time-in-service (TIS) and thereafter at intervals not to exceed 800 hours TIS, inspect each bearing for freedom of movement by turning and tilting the bearing as depicted in Figure 2 of Eurocopter Alert Service Bulletin No. EC135-67A-012, Revision 1, dated October 18, 2006 (ASB). During any inspection:

(i) If there is binding or rough turning, before further flight, replace the bearing with an airworthy bearing.

(ii) If there is chafing on the lower side of the floor that does not extend through the panel outer layer, before further flight, replace the bearing with an airworthy bearing.

(iii) If there is damage on the lower side of the floor in the area of the assembly opening that extends through the panel outer layer (revealing an open honeycomb cell or layer), before further flight, replace the bearing with an airworthy bearing and repair the floor.

(2) After performing the actions in (e)(1)(i) through (iii) of this AD, before further flight, install a Teflon strip and identify the floor by following the Accomplishment Instructions, paragraphs 3.E.(1) through 3.E.(4), of the ASB.

(3) Within 100 hours TIS, modify and re-identify the rod as depicted in Figure 1 of the ASB and by following the Accomplishment Instructions, paragraphs 3.H.(1) through 3.H.(3)(f), of the ASB.

(f) Alternative Methods of Compliance (AMOCs)

(1) The Manager, Safety Management Group, FAA, may approve AMOCs for this AD. Send your proposal to: Matt Fuller, Senior Aviation Safety Engineer, Safety Management Group, Rotorcraft Directorate, FAA, 2601 Meacham Blvd., Fort Worth, Texas 76137; telephone (817) 222-5110; email matthew.fuller@faa.gov.

(2) For operations conducted under 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency AD No. 2006-0318 R1, dated October 27, 2006, which you may view on the internet at http://www.regulations.gov in the AD docket.

(h) Subject

The Joint Aircraft System/Component (JASC) Code is 6720: Tail Rotor Control System.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin No. EC135-67A-012, Revision 1, dated October 18, 2006.

(ii) Reserved.

(3) For Eurocopter service information identified in this AD, contact American Eurocopter Corporation, 2701 N. Forum Drive, Grand Prairie, TX 75052, telephone (972) 641-0000 or (800) 232-0323, fax (972) 641-3775, or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on September 27, 2013.
Lance T. Gant,
Acting Directorate Manager, Rotorcraft Directorate, Aircraft Certification Service.

[FR Doc. 2013-25312 Filed 10-30-13; 8:45 am]

BILLING CODE 4910-13-P